NATIONAL SCIENCE FOUNDATION

Notice of Permits Issued Under the Antarctic Conservation Act of 1978

AGENCY: National Science Foundation.

ACTION: Notice of permits issued under the Antarctic Conservation of 1978, Public Law 95-541.

SUMMARY: The National Science Foundation (NSF) is required to publish notice of permits issued under the Antarctic Conservation Act of 1978. This is the required notice.

FOR FURTHER INFORMATION CONTACT: Nadene G. Kennedy, Permit Office, Office of Polar Programs, Rm. 755, National Science Foundation, 4201 Wilson Boulevard, Arlington, VA 22230.

SUPPLEMENTARY INFORMATION: On October 17, 2001, the National Science Foundation published a notice in the Federal Register of a permit modification request received. The permit modification was issued on November 15, 2001 to: Paul J. Ponganis, Permit No. 2000-004.

Nadene G. Kennedy,
Permit Officer.

[FR Doc. 01-29354 Filed 11-23-01; 8:45am]

BILLING CODE 7555-01-M